DEPARTMENT OF THE INTERIOR

Fish and Wildlife Service

Comprehensive Conservation Plan and Environmental Assessment for Mingo, Pilot Knob, and Ozark Cavefish National Wildlife Refuges in Southern Missouri and Patoka River National Wildlife Refuge (NWR) in Southwestern Indiana

AGENCY: Fish and Wildlife Service, Interior.

ACTION: Notice of intent.

SUMMARY: This notice advises the public that the U.S. Fish and Wildlife Service (Service) intends to gather information necessary to prepare Comprehensive Conservation Plans (CCP) and Environmental Assessments (EA) pursuant to the National Environmental Policy Act (NEPA) and its implementing regulations, for the following National Wildlife Refuges: Mingo NWR in Wayne and Stoddard Counties, Missouri, Pilot Knob NWR in Iron County, Missouri and Ozark Cavefish NWR in Lawrence County, Missouri, which are managed by Mingo NWR staff and Patoka River NWR in Gibson and Pike Counties, Indiana.

The Service is furnishing this notice in compliance with the National Wildlife Refuge System Administration Act of 1966, as amended (16 U.S.C. 668dd et seq.), to achieve the following:

1. Advise other agencies and the public of our intentions; and

2. Obtain additional suggestions and information on the scope of alternatives and impacts to be considered.

Open house style meetings and focus group meetings will be held during the scoping phase of the CCP development process.

In addition, the Service is inviting comments on archeological, historic, and traditional cultural sites in accordance with the National Historic Preservation Act. Cultural resource overview studies will be conducted to identify known historic and cultural sites on the refuges.

Special mailings, newspaper articles, and other media announcements will inform people of the opportunities for written input throughout the CCP planning process.

DATES: We estimate that the draft environmental documents will be available in 2005.

ADDRESSES:

1. Address comments for Mingo NWR, Pilot Knob NWR or Ozark Cavefish NWR to: Refuge Manager, Mingo National Wildlife Refuge, 24279 State Highway 51, Puxico, Missouri 63960-0103.

2. Address comments for Patoka River NWR to: Refuge Manager, Patoka River National Wildlife Refuge, 510½ West Morton Street, Oakland City, Indiana 47660-0217.

You may find information on the CCP planning process and submit comments electronically at the planning Web site: http://midwest.fws.gov/planning/index.htm or you may e-mail comments to: r3planning@fws.gov.

FOR FURTHER INFORMATION CONTACT: Kathleen Maycroft, Refuge Manager, Mingo NWR, at 573-222-3589 or Bill McCoy, Refuge Manager, Patoka River NWR, at 812-749-3199.

SUPPLEMENTARY INFORMATION: By Federal law, all lands within the National Wildlife Refuge System are to be managed in accordance with an approved CCP. The CCP guides management decisions and identifies refuge goals, long-range objectives, and strategies for achieving refuge purposes. The CCP will provide other agencies and the public with a clear understanding of the desired conditions for the Refuge and how the Service will implement management strategies.

The CCP planning process will consider many elements, including wildlife and habitat management, habitat protection and acquisition, wilderness preservation, public recreational activities, industrial use, and cultural resource preservation. Public input into this planning process is essential.

The Service will prepare an Environmental Assessment (EA) in accordance with procedures for implementing NEPA found in the Departmental Manual 516 DM 6, Appendix 1.

Review of this project will be conducted in accordance with the requirements of the National Environmental Policy Act of 1969, as amended (42 U.S.C. 4321 et seq.), NEPA Regulations (40 CFR 1500-1508), other appropriate Federal laws and regulations, and Service policies and procedures for compliance with those regulations.

Dated: October 22, 2003.
Marvin Moriarty,
Acting Regional Director.

[FR Doc. 03-27666 Filed 11-3-03; 8:45 am]

BILLING CODE 4310-55-P